ENVIRONMENTAL PROTECTION AGENCY

[EPA-HQ-OAR-2021-0109; FRL-9788-01-OMS]

Information Collection Request Submitted to OMB for Review and Approval; Comment Request; NESHAP for Reinforced Plastic Composites Production (Renewal)

AGENCY: Environmental Protection Agency (EPA).

ACTION: Notice.

SUMMARY: The Environmental Protection Agency (EPA) has submitted an information collection request (ICR), NESHAP for Reinforced Plastic Composites Production (EPA ICR Number 1976.10, OMB Control Number 2060-0509), to the Office of Management and Budget (OMB) for review and approval in accordance with the Paperwork Reduction Act. This is a proposed extension of the ICR, which is currently approved through April 30, 2022. Public comments were previously requested, via the Federal Register, on April 13, 2021, during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before May 25, 2022.

ADDRESSES: Submit your comments, referencing Docket ID Number EPA-HQ-OAR-2021-0109, online using www.regulations.gov (our preferred method) or by mail to: EPA Docket Center, Environmental Protection Agency, Mail Code 2821T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: https://www.epa.gov/dockets.

Abstract: The National Emission Standards for Hazardous Air Pollutants (NESHAP) for the regulations (40 CFR part 63, subpart WWWW) apply to both existing facilities and new facilities with reinforced plastic composites (RPC) production operations and processes. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: 5900-566.

Respondents/affected entities: Owners and operators of reinforced plastic composites production operations and processes.

Respondent's obligation to respond: Mandatory (40 CFR part 63, subpart WWWW).

Estimated number of respondents: 448 (total).

Frequency of response: Monthly, semiannually, annually.

Total estimated burden: 38,600 hours (per year). Burden is defined at 5 CFR 1320.3(b).

Total estimated cost: $4,570,000 (per year), which includes $0 for annualized capital/startup and/or operation & maintenance costs.

Changes in the Estimates: The increase in burden from the most-recently approved ICR is due to an increase in adjustment(s). The adjustment increase in burden from the most-recently approved ICR is due to a change in regulatory requirements stemming from the 2020 RTR ICR (EPA ICR No. 1976.09) and the incorporation of its burden into the currently-approved ICR. Items added include burden for work practice requirements and time to record information. Work practice requirements have had a significant impact on the burden since facilities are complying with the current regulations through pollution prevention measures rather than add-on control devices. The time to complete semiannual compliance reports and time to train personnel have also been adjusted. Reporting emissions exceedances or no emissions exceedances is included in the semiannual compliance reports, and the time to train personnel was adjusted to represent facilities of any size. In addition, capital/startup and operation and maintenance costs have decreased from the previous ICR. It is estimated no new facilities will be subject to the rule and that existing facilities are complying with the rule using compliant materials instead of add-on control devices.

Courtney Kerwin,
Director, Regulatory Support Division.

[FR Doc. 2022-08706 Filed 4-22-22; 8:45 am]

BILLING CODE 6560-50-P